DEPARTMENT OF COMMERCE

International Trade Administration

[C-525-002, C-533-896, C-489-840]

Common Alloy Aluminum Sheet From Bahrain, India, and the Republic of Turkey: Countervailing Duty Orders

AGENCY: Enforcement and Compliance, International Trade Administration, Department of Commerce.

SUMMARY: Based on affirmative final determinations by the Department of Commerce (Commerce) and the International Trade Commission (ITC), Commerce is issuing the countervailing duty orders on common alloy aluminum sheet (aluminum sheet) from Bahrain, India, and the Republic of Turkey (Turkey).

DATES: Applicable April 27, 2021.

FOR FURTHER INFORMATION CONTACT: Thomas Schauer at (202) 482-0410 (Bahrain); Benito Ballesteros at (202) 482-7425 (India); and Gene Calvert at (202) 482-3586 (Turkey); AD/CVD Operations, Enforcement and Compliance, International Trade Administration, U.S. Department of Commerce, 1401 Constitution Avenue NW, Washington, DC 20230.

SUPPLEMENTARY INFORMATION:

Background

In accordance with section 705(d) of the Tariff Act of 1930, as amended (the Act), on March 8, 2021, Commerce published its affirmative final determinations that countervailable subsidies are being provided to producers and exporters of aluminum sheet from Bahrain, India, and Turkey.¹ On April 20, 2021, the ITC notified Commerce of its affirmative final determinations that an industry in the United States is materially injured within the meaning of section 705(b)(1)(A)(i) of the Act, by reason of subsidized imports of subject merchandise from Bahrain, India, and Turkey, and its negative critical circumstances finding with respect to imports of aluminum sheet from Turkey.²

¹ See Common Alloy Aluminum Sheet from Bahrain: Final Affirmative Countervailing Duty Determination, 86 FR 13333 (March 8, 2021); Common Alloy Aluminum Sheet from India: Final Affirmative Countervailing Duty Determination and Final Negative Critical Circumstances Determination, 86 FR 13285 (March 8, 2021); and Common Alloy Aluminum Sheet from the Republic of Turkey: Final Affirmative Countervailing Duty Determination and Final Affirmative Determination of Critical Circumstances, in Part, 86 FR 13315 (March 8, 2021) (Turkey Final Determination).

² See ITC Notification Letter, Investigation Nos. 701-TA-639 and 641-643- and 731-TA-1475-1479, 1481-1483, and 1485-1492 (Final) dated April 20, 2021 (ITC Notification Letter).

Scope of the Orders

The products covered by these orders are aluminum sheet from Bahrain, India, and Turkey. For a complete description of the scope of these orders, see the appendix to this notice.

Countervailing Duty Orders

On April 20, 2021, in accordance with sections 705(b)(1)(A)(i) and 705(d) of the Act, the ITC notified Commerce of its final determinations in these investigations, in which it found that an industry in the United States is materially injured by reason of subsidized imports of aluminum sheet from Bahrain, India, and Turkey.³ Therefore, in accordance with section 705(c)(2) of the Act, Commerce is issuing these countervailing duty orders. Because the ITC determined that imports of aluminum sheet from Bahrain, India, and Turkey are materially injuring a U.S. industry, unliquidated entries of such merchandise from Bahrain, India, and Turkey, entered or withdrawn from warehouse for consumption, are subject to the assessment of countervailing duties.

³ See ITC Notification Letter.

Therefore, in accordance with section 706(a) of the Act, Commerce will direct U.S. Customs and Border Protection (CBP) to assess, upon further instruction by Commerce, countervailing duties for all relevant entries of aluminum sheet from Bahrain, India, and Turkey. With the exception of entries occurring after the expiration of the provisional measures period and before the publication of the ITC's final affirmative injury determinations, as further described below, countervailing duties will be assessed on unliquidated entries of aluminum sheet from Bahrain, India, and Turkey entered, or withdrawn from warehouse, for consumption on or after August 14, 2020, the date of publication of the Preliminary Determinations.⁴

⁴ See Common Alloy Aluminum Sheet from Bahrain: Preliminary Affirmative Countervailing Duty Determination, and Alignment of Final Determination with Final Antidumping Duty Determination, 85 FR 49636 (August 14, 2020); Common Alloy Aluminum Sheet from India: Preliminary Affirmative Countervailing Duty Determination, Preliminary Negative Critical Circumstances Determination, and Alignment of Final Determination with Final Antidumping Duty Determination, 85 FR 49631 (August 14, 2020); and Common Alloy Aluminum Sheet from the Republic of Turkey: Preliminary Affirmative Countervailing Duty Determination, Preliminary Affirmative Determination of Critical Circumstances in Part, and Alignment of Final Determination with Final Antidumping Duty Determination, 85 FR 49629 (August 14, 2020) (Turkey Preliminary Determination) (collectively, Preliminary Determinations).

In the investigation of aluminum sheet from Turkey, because Commerce's preliminary determination was negative with respect to Teknik Aluminyum Sanayi A.S. (Teknik), we did not instruct CBP to suspend liquidation of Teknik's entries of aluminum sheet from Turkey from the date of the Preliminary Determinations. Commerce's final determination concerning aluminum sheet from Turkey, however, was affirmative with respect to Teknik and, therefore, we directed CBP to suspend liquidation for Teknik's entries from the date of publication of the Turkey Final Determination.⁵ Accordingly, with respect to Teknik, countervailing duties will continue to be assessed on unliquidated entries of aluminum sheet entered, or withdrawn from warehouse, for consumption on or after March 8, 2021, the date of publication of the Turkey Final Determination.

⁵ See Turkey Final Determination.

Suspension of Liquidation and Cash Deposits

In accordance with section 706 of the Act, Commerce will instruct CBP to reinstitute (or continue) the suspension of liquidation of aluminum sheet from Bahrain, India, and Turkey, effective on the date of publication of the ITC's final affirmative injury determination in the Federal Register, and to assess, upon further instruction by Commerce, pursuant to section 706(a)(1) of the Act, countervailing duties for each entry of the subject merchandise in an amount based on the net countervailable subsidy rates below. On or after the date of publication of the ITC's final injury determination in the Federal Register, CBP must require, at the same time as importers would deposit estimated normal customs duties on this merchandise, a cash deposit equal to the rates listed in the table below. These instructions suspending liquidation will remain in effect until further notice. The all-others rate applies to all producers or exporters not specifically listed, as appropriate.

⁶ Commerce has found Utkal Alumina International Limited to be cross-owned with Hindalco Industries Limited.

⁷ Commerce has found Kibar Dis Ticaret A.S. and Kibar Holding to be cross-owned with Assan Aluminyum Sanayi ve Ticaret A.S.

⁸ Commerce has found TAC Metal Ticaret A.S. to be cross-owned with Teknik Aluminyum Sanayi A.S.

Bahrain
Company | Subsidy rate (percent)
Gulf Aluminium Rolling Mill B.S.C | 6.44
All Others | 6.44

India
Company | Subsidy rate (percent)
Hindalco Industries Limited ⁶ | 35.25
Manaksia Aluminium Company Limited | 4.89
All Others | 30.15

Turkey
Company | Subsidy rate (percent)
Assan Aluminyum Sanayi ve Ticaret A.S.⁷ | 2.56
Teknik Aluminyum Sanayi A.S.⁸ | 4.34
All Others | 3.45

Critical Circumstances

With regard to the ITC's negative critical circumstances determination on imports of aluminum sheet from Turkey, we will instruct CBP to lift suspension and to refund any cash deposits made to secure the payment of estimated countervailing duties with respect to entries of aluminum sheet from Turkey, entered or withdrawn from warehouse, for consumption on or after May 16, 2020 (i.e., 90 days prior to the date of publication of the Turkey Preliminary Determination), but before August 14, 2020 (i.e., the date of the publication of the Turkey Preliminary Determination).

Provisional Measures

Section 703(d) of the Act states that instructions issued pursuant to an affirmative preliminary determination may not remain in effect for more than four months. In the underlying investigations, Commerce published the Preliminary Determinations on August 14, 2020. Therefore, the four-month period beginning on the date of the publication of the Preliminary Determinations ended on December 11, 2020.

In accordance with section 703(d) of the Act, we instructed CBP to terminate the suspension of liquidation and to liquidate, without regard to countervailing duties, unliquidated entries of aluminum sheet from Bahrain, India, and Turkey entered, or withdrawn from warehouse, for consumption after December 11, 2020, the final day on which the provisional measures were in effect, until and through the day preceding the date of publication of the ITC's final injury determination in the Federal Register.⁹ Suspension of liquidation will resume on the date of publication of the ITC's final determination in the Federal Register.

⁹ As explained above, in the investigation of aluminum sheet from Turkey, Commerce's preliminary determination was negative with respect to Teknik, but Commerce's final determination with respect to Teknik was affirmative. Accordingly, we directed CBP to suspend liquidation for Teknik's entries from the date of publication of the Turkey Final Determination and, at the time of publication of this order, we have not issued instructions pertaining to the expiration of provisional measures for Teknik.

Notification to Interested Parties

This notice constitutes the countervailing duty orders with respect to aluminum sheet from Bahrain, India, and Turkey pursuant to section 706(a) of the Act. Interested parties can find a list of countervailing duty orders currently in effect at http://enforcement.trade.gov/stats/iastats1.html.

These orders are issued and published in accordance with section 706(a) of the Act and 19 CFR 351.211(b).

Dated: April 21, 2021.
Christian Marsh,
Acting Assistant Secretary for Enforcement and Compliance.

Appendix

Scope of the Orders

The merchandise covered by these orders is common alloy aluminum sheet, which is a flat-rolled aluminum product having a thickness of 6.3 mm or less, but greater than 0.2 mm, in coils or cut-to-length, regardless of width. Common alloy sheet within the scope of these orders includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core. The use of a proprietary alloy or non-proprietary alloy that is not specifically registered by the Aluminum Association as a discrete 1XXX-, 3XXX-, or 5XXX-series alloy, but that otherwise has a chemistry that is consistent with these designations, does not remove an otherwise in-scope product from the scope.

Common alloy sheet may be made to ASTM specification B209-14 but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of these orders if performed in the country of manufacture of the common alloy sheet.

Excluded from the scope of these orders is aluminum can stock, which is suitable for use in the manufacture of aluminum beverage cans, lids of such cans, or tabs used to open such cans. Aluminum can stock is produced to gauges that range from 0.200 mm to 0.292 mm, and has an H-19, H-41, H-48, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3096, 7606.12.6000, 7606.91.3095, 7606.91.6095, 7606.92.3035, and 7606.92.6095. Further, merchandise that falls within the scope of these orders may also be entered into the United States under HTSUS subheadings 7606.11.3030, 7606.12.3015, 7606.12.3025, 7606.12.3035, 7606.12.3091, 7606.91.3055, 7606.91.6055, 7606.92.3025, 7606.92.6055, 7607.11.9090. Although the HTSUS subheadings are provided for convenience and customs purposes, the written description of the scope of these orders is dispositive.

[FR Doc. 2021-08714 Filed 4-26-21; 8:45 am]

BILLING CODE 3510-DS-P